DEPARTMENT OF TRANSPORTATION

Federal Railroad Administration

Notice of Application for Approval of Discontinuance or Modification of a Railroad Signal System or Relief From the Requirements of Title 49 Code of Federal Regulations Part 236

Pursuant to Title 49 Code of Federal Regulations (CFR) part 235 and 49 U.S.C. 20502(a), the following railroads have petitioned the Federal Railroad Administration (FRA) seeking approval for the discontinuance or modification of the signal system or relief from the requirements of 49 CFR part 236 as detailed below.

Docket No. FRA-2000-6890

Applicant: Colorado Department of Transportation, Mr. Randy Grauberger, Information Management Branch Manager, 4201 east Arkansas Avenue, Denver, Colorado 80222

Colorado Department of Transportation seeks approval of the proposed discontinuance of the automatic block signal system, on the single main track, on the Towner Rail Line, between NA Junction, milepost 869.4 and Towner, milepost 747.5, on the former Union Pacific Railroad's Kansas Division, Hoisington Subdivision, a distance of approximately 122 miles, in southeastern Colorado. The proposal stipulates that signals 8677, 8694, and 8695 will remain in service, while all other discontinued signals will be turned and bagged.

The reasons given for the proposed changes are that the lease or operation of the Towner Line, by a short line railroad operator, will normally result in the scheduling of only one train on the line at any given time during the initial years of operation, and that a Track Warrant Control method of operation will provide operational safety in the event that it becomes necessary to operate more than one train at a time on the line.

Any interested party desiring to protest the granting of an application shall set forth specifically the grounds upon which the protest is made, and contain a concise statement of the interest of the Protestant in the proceeding. Additionally, one copy of the protest shall be furnished to the applicant at the address listed above.

All communications concerning this proceeding should be identified by the docket number and must be submitted to the Docket Clerk, DOT Central Docket Management Facility, Room PI-401, Washington, DC 20590-0001. Communications received within 45 days of the date of this notice will be considered by the FRA before final action is taken. Comments received after that date will be considered as far as practicable. All written communications concerning these proceedings are available for examination during regular business hours (9 a.m.—5 p.m.) at DOT Central Docket Management Facility, Room PI-401 (Plaza Level), 400 Seventh Street, SW, Washington, DC 20590-0001. All documents in the public docket are also available for inspection and copying on the internet at the docket facility's Web site at http://dms.dot.gov.

FRA expects to be able to determine these matters without an oral hearing. However, if a specific request for an oral hearing is accompanied by a showing that the party is unable to adequately present his or her position by written statements, an application may be set for public hearing.

Issued in Washington, DC on May 25, 2000.
Grady C. Cothen, Jr.,
Deputy Associate Administrator for Safety Standards and Program Development.

[FR Doc. 00-14053 Filed 6-5-00; 8:45 am]

BILLING CODE 4910-06-P